DEPARTMENT OF COMMERCE

National Oceanic and Atmospheric Administration

[RTID 0648-XC061]

Endangered Species; Take of Anadromous Fish

AGENCY: National Marine Fisheries Service (NMFS), National Oceanic and Atmospheric Administration (NOAA), Department of Commerce.

ACTION: Notice of receipt; one application for a scientific enhancement permit.

SUMMARY: Notice is hereby given that NMFS received an application from NMFS' California Coastal Office in Santa Rosa, California for an U.S. Endangered Species Act (ESA) Section 10(a)(1)(A) scientific enhancement permit (permit 26495). The purpose of this permit is to enhance the survival of the endangered Central California Coast (CCC) Evolutionary Significant Unit (ESU) of coho salmon (Oncorhynchus kisutch) and threatened CCC Distinct Population Segment (DPS) of steelhead (O. mykiss) in coastal streams of California's Santa Cruz Mountains through rescue and relocation of these species from drying streams. The public is hereby notified that the application for Permit 26495 is available for review and comment before NMFS either approves or disapproves the application.

DATES: Written comments on the permit application must be received at the appropriate email address (see ADDRESSES) on or before July 1, 2022.

ADDRESSES: Written comments on the permit application should be submitted to Joel Casagrande via email at joel.casagrande@noaa.gov with “permit 26495” referenced in the subject line. The permit application is available for review online at the Authorizations and Permits for Protected Species web site: https://apps.nmfs.noaa.gov/preview/preview_open_for_comment.cfm.

FOR FURTHER INFORMATION CONTACT: Joel Casagrande (phone: 707-575-6016 or email: joel.casagrande@noaa.gov).

SUPPLEMENTARY INFORMATION:

Species Covered in This Notice

Central California Coast (CCC) Evolutionary Significant Unit (ESU) of coho salmon (Oncorhynchus kisutch) and threatened CCC Distinct Population Segment (DPS) of steelhead (O. mykiss).

Authority

Scientific research and enhancement permits are issued in accordance with Section 10(a)(1)(A) of the ESA (16 U.S.C. 1531 et. seq) and regulations governing listed fish and wildlife permits (50 CFR 222-227). NMFS issues permits based on findings that such permits: (1) Are applied for in good faith; (2) would not operate to the disadvantage of the listed species which are the subject of the permits; and (3) are consistent with the purposes and policies set forth in Section 2 of the ESA. Authority to take listed species is subject to conditions set forth in the permits.

This notice is provided pursuant to Section 10(c) of the ESA. NMFS will evaluate the application, associated documents, and any comment submitted to determine whether the application meets the requirements of Section 10(a) of the ESA and Federal regulations. The final permit decisions will not be made until after the end of the 30-day comment period and consideration of any comment submitted therein. NMFS will publish notice of its final action in the Federal Register.

Those individuals requesting a hearing on the application listed in this notice should provide the specific reasons why a hearing on the application would be appropriate (see ADDRESSES). Such a hearing is held at the discretion of the Assistant Administrator for NOAA Fisheries.

Permit Application Received

Permit 26495

NMFS' California Coastal Office in Santa Rosa, California applied for a Section 10(a)(1)(A) scientific enhancement permit (permit 26495). This application involves enhancing the survival of endangered Central California Coast (CCC) Evolutionary Significant Unit (ESU) of coho salmon (Oncorhynchus kisutch) and threatened CCC Distinct Population Segment (DPS) of steelhead (O. mykiss) in coastal streams of California's Santa Cruz Mountains through rescue and relocation of these species from drying streams. This application also includes research and monitoring elements. To assess the efficacy of these rescue activities, a subset of the juvenile salmonids may receive a Passive Integrated Transponder tag (PIT-tag) prior to release. The tagged fish will be tracked by fixed antennas positioned in multiple regional watersheds which will provide information on their movements and survival in the freshwater environment. Otoliths and tissue samples will be collected opportunistically from spawned adult carcasses encountered to learn about the individual's life history. Tissue samples (fin clips and scales) will be collected from carcasses and a subset of live fish for genetic information (fin clips) and age-structure and growth patterns (scales). In the event that adult, pre-spawned coho salmon are rescued, these fish may receive a floy tag for identification purposes in subsequent spawning ground surveys. Activities associated with rescue and relocation could occur anywhere within the coastal watersheds of the Santa Cruz Mountains including San Gregorio, Pescadero, Gazos, Waddell, Scott, San Vicente, Laguna, Liddell, Majors, San Lorenzo, Soquel, and Aptos watersheds. A summary of these components is provided as follows.

Rescue-Relocation and Research-Monitoring

This component involves rescuing and relocating coho salmon and steelhead from stream sections experiencing natural dewatering during the dry season or prolonged periods of below average rainfall. Specific staff listed on the application from both NMFS and the California Department of Fish and Wildlife (CDFW) will follow a predetermined communication and documentation protocol while implementing these relocation efforts. Standard scientific methods and equipment (e.g., backpack-electrofishing, nets, seines, portable air pumps, transport containers, water chillers, etc.) will be used during the capture and relocation of coho salmon and steelhead. Captured coho salmon and steelhead will be transported for release into habitats within the same watershed (when possible) that are likely to maintain adequate water and habitat quality through the remainder of the dry season. Because these are endangered and threatened populations with low abundance, relocating coho salmon and steelhead from sections of stream where they will likely perish is expected to benefit the survival of these individual fish and enhance the population. The proposed tagging and tissue collection are intended to provide information on the survival and early life history of rescued fish, contributions of rescued fish to subsequent adult returns, and information on the genetic diversity within basins, particularly where natural origin fish are present.

Field activities for the various proposed enhancement components can occur year-round starting in June 2022 through December 31, 2032. The annual sum of take requested across the various components of this effort is as follows: (1) Non-lethal capture and release of up to 1,000 juvenile natural origin coho salmon and 3,000 juvenile steelhead while electrofishing, seining, or dip-netting; (2) non-lethal capture and release of up to 1000 juvenile hatchery origin coho salmon, 500 juvenile natural origin coho salmon, and 1000 juvenile steelhead for the purpose of applying Passive Integrated Transponder-tags (PIT-tags) and collecting tissue samples; (3) non-lethal capture and release of up to 40 adult natural origin coho salmon and 60 adult hatchery origin coho salmon by beach seine for the purpose of applying PIT-tags, floy tags, and collecting tissue samples; (4) non-lethal capture and release of up to 150 adult steelhead by beach seine for the purpose of applying PIT-tags and collecting tissue samples; and (5) tissue collection from up to 250 adult natural origin coho salmon carcasses and 150 adult steelhead. The potential annual unintentional lethal coho salmon and steelhead take expected to result from the proposed enhancement activities is up to 75 juvenile natural origin coho salmon, 50 juvenile hatchery origin coho salmon, 200 juvenile steelhead, 2 adult natural origin coho salmon, 3 adult hatchery origin coho salmon, and 7 adult steelhead. These estimates assume up to 5 percent incidental mortality rate. For research and monitoring, incidental mortality rates for capture and handling are generally less than or equal to 2 percent. However, in many cases fish targeted for rescue and relocation are located in isolated habitats and declining habitats with stressful environmental conditions, and therefore it is reasonable to assume a higher potential incidental mortality rate from capture and handling. Absent these rescue efforts, salmonids left in these declining environmental conditions are expected to die.

This proposed scientific enhancement effort is expected to enhance survival and support coho salmon and steelhead recovery within the CCC ESU of coho salmon and CCC DPS of steelhead and is consistent with recommendations and objectives outlined in NMFS' Central California Coast ESU Coho Salmon Recovery Plan and Coastal Multispecies Recovery Plan. See the Permit 26495 application for greater details on the various components of this scientific enhancement effort including the specific scientific methods proposed and take allotments requested for each.

Dated: May 26, 2022.
Angela Somma,
Chief, Endangered Species Division, Office of Protected Resources, National Marine Fisheries Service.

[FR Doc. 2022-11749 Filed 5-31-22; 8:45 am]

BILLING CODE 3510-22-P